DEPARTMENT OF COMMERCE

National Oceanic and Atmospheric Administration

[I.D. 010302F]

Pacific Fishery Management Council; Public Meetings

AGENCY: National Marine Fisheries Service (NMFS), National Oceanic and Atmospheric Administration (NOAA), Commerce.

ACTION: Notice of public meeting.

SUMMARY: The Pacific Fishery Management Council’s (Council) Groundfish Management Team (GMT) will hold a working meeting to plan the annual management cycle and strategize on 2002 Council initiatives. This meeting is open to the public.

DATES: The GMT working meeting will convene on Monday, February 4, 2002 at 1 p.m. and may go into the evening until business for the day is completed. The GMT meeting will reconvene from 8 a.m. to 5 p.m. Tuesday, February 5 through Thursday, February 7 until business for the day is completed.

ADDRESSES: The GMT working meeting will be held at the Pacific Fishery Management Council office, West Conference Room, 7700 NE Ambassador Place, Suite 200, Portland, OR 97220; 503-326-6352.

Council address: Pacific Fishery Management Council, 7700 NE Ambassador Place, Suite 200, Portland, OR 97220-1384, 503-326-6352.

FOR FURTHER INFORMATION CONTACT: Mr. John DeVore, Fishery Management Staff Officer for Groundfish, 503-326-6352.

SUPPLEMENTARY INFORMATION: The primary purpose of the GMT working meeting is to plan the GMT's annual schedule and strategies to effectively aid the Council in managing 2002 West Coast groundfish fisheries and Council initiatives expected to arise in 2002. Additionally, the GMT will discuss groundfish management measures in place for the winter and spring months, respond to assignments relating to implementation of the Council’s groundfish strategic plan, consider technical aspects of draft stock rebuilding plans and analyses, review new groundfish stock assessments and survey results, and address other assignments relating to groundfish management.

Although nonemergency issues not contained in this agenda may come before the GMT for discussion, those issues may not be the subject of formal GMT action during this meeting. GMT action will be restricted to those issues specifically listed in this notice and any issues arising after publication of this notice requiring emergency action under section 305(c) of the Magnuson-Stevens Fishery Conservation and Management Act, provided the public has been notified of the GMT's intent to take final action to address the emergency.

Special Accommodations

The meetings are physically accessible to people with disabilities. Requests for sign language interpretation or other auxiliary aids should be directed to Ms. Carolyn Porter at 503-326-6352 at least 5 days prior to the meeting date.

Dated: January 4, 2002.
Richard W. Surdi,
Acting Director, Office of Sustainable Fisheries, National Marine Fisheries Service.

[FR Doc. 02-779 Filed 1-10-02; 8:45 am]

BILLING CODE 3510-22-S